NATIONAL CREDIT UNION ADMINISTRATION

Sunshine Act: Notice of Agency Meeting

TIME AND DATE: 10:00 a.m., Thursday, August 2, 2018.

PLACE: Board Room, 7th Floor, Room 7047, 1775 Duke Street (All visitors must use Diagonal Road Entrance), Alexandria, VA 22314-3428.

STATUS: Open.

MATTERS TO BE CONSIDERED:

1. 2018 Mid-Session Budget.

2. Continuation of Federal Credit Union Loan Interest Rate Ceiling.

3. Final Suspension and Debarment Procedures.

4. NCUA Rules and Regulations, Loans to Members.

5. NCUA Rules and Regulations, Risk-Based Capital.

Recess: 11:30 a.m.

TIME AND DATE: 11:45 a.m., Thursday, August 2, 2018.

PLACE: Board Room, 7th Floor, Room 7047, 1775 Duke Street, Alexandria, VA 22314-3428.

STATUS: Closed.

MATTERS TO BE CONSIDERED:

1. Supervisory Action. Closed pursuant to Exemption (8).

2. Supervisory Action. Closed pursuant to Exemptions (8), (9)(i)(B) and (9)(ii).

3. Supervisory Action. Closed pursuant to Exemptions (6), (8), (9)(i)(B) and (9)(ii) and (10).

CONTACT PERSON FOR MORE INFORMATION: Gerard Poliquin, Secretary of the Board, Telephone: 703-518-6304.

Gerard Poliquin,
Secretary of the Board.

[FR Doc. 2018-16340 Filed 7-26-18; 4:15 pm]

BILLING CODE 7535-01-P